DEPARTMENT OF COMMERCE

International Trade Administration

[A-507-502]

Administrative Review of Certain In-Shell Raw Pistachios from Iran: Extension of Time Limit for Preliminary Results of Antidumping Duty Administrative Review

AGENCY: Import Administration, International Trade Administration, Department of Commerce.

EFFECTIVE DATE: April 4, 2002.

FOR FURTHER INFORMATION CONTACT: Phyllis Hall at (202) 482-1398, or Donna Kinsella at (202) 482-0194, Import Administration, International Trade Administration, U.S. Department of Commerce, 14th Street and Constitution Ave, NW, Washington, DC 20230.

SUPPLEMENTARY INFORMATION:

Statutory Time Limits

Section 751(a)(3)(A) of the Tariff Act of 1930, as amended (the Act), requires the Department of Commerce (“the Department”) to make a preliminary determination within 245 days after the last day of the anniversary month of an order for which a review is requested, and a final determination within 120 days after the date on which the preliminary determination is published. However, if it is not practicable to complete the review within these time periods, section 751(a)(3)(A) of the Act allows the Department to extend the time limit for the preliminary determination to a maximum of 365 days and for the final determination to 180 days (or 300 days if the Department does not extend the time limit for the preliminary determination) from the date of publication of the preliminary determination.

Background

On August 20, 2001, the Department published the Notice of Initiation of Administrative Review of the Antidumping Duty Order on Certain In-Shell Raw Pistachios from Iran, covering the period July 1, 2000 through June 30, 2001 (66 FR 43570). The preliminary results are currently due no later than April 2, 2002.

Extension of Time Limit for Preliminary Results of Review

The instant administrative review involves several complex issues that necessitate a greater amount of time in order to preliminarily complete this review (e.g., exchange rates, selection of comparison market and complex issues surrounding the U.S. sales). Therefore, it is not practicable to complete the preliminary results of this review within the original time limits mandated by section 751 (a)(3)(A) of the Act. The Department is extending the time limit for completion of the preliminary results by 120 days, until July 31, 2002.

This extension of the time limit is in accordance with section 751 (a)(3)(A) of the Act and 19 CFR 351.213(h)(2).

Dated: March 27, 2002
Joseph A. Spetrini,
Deputy Assistant Secretaryfor Import Administration, Group III.

[FR Doc. 02-8164 Filed 4-3-02; 8:45 am]

BILLING CODE 3510-DS-S